ENVIRONMENTAL PROTECTION AGENCY

[EPA-HQ-OPPT-2010-0112; FRL-8814-1]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from October 26, 2009 through January 22, 2010, consists of the PMNs and TME, both pending or expired, and the notices of commencement to manufacture a new chemical that the Agency has received under TSCA section 5 during this time period.

DATES: Comments identified by the specific PMN number or TME number, must be received on or before April 9, 2010.

ADDRESSES: Submit your comments, identified by docket identification (ID) number EPA-HQ-OPPT-2010-0112, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2010-0112. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2010-0112. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding Federal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: Colby Lintner, Regulatory Coordinator, Environmental Assistance Division, Office of Pollution Prevention and Toxics (7408M), Environmental Protection Agency, 1200 Pennsylvania Ave., NW., Washington, DC 20460-0001; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from October 26, 2009 through January 22, 2010, consists of the PMNs and TME, both pending or expired, and the notices of commencement to manufacture a new chemical that the Agency has received under TSCA section 5 during this time period.

III. Receipt and Status Report for PMNs

This status report identifies the PMNs and TME, both pending or expired, and the notices of commencement to manufacture a new chemical that the Agency has received under TSCA section 5 during this time period. If you are interested in information that is not included in the following tables, you may contact EPA as described in Unit I. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 161 Premanufacture Notices Received From: 10/26/09 to 1/22/10
Case No. | Received Date | Projected Notice End Date | Manufacturer/Importer | Use | Chemical
P-10-0022 | 10/26/09 | 01/23/10 | H.B. Fuller | (G) Industrial adhesive | (G) Isocyanate-functional polyurethane prepolymer
P-10-0023 | 10/26/09 | 01/23/10 | CBI | (S) Pigment derivative used in ink contained in ink jet printer cartridges | (G) Benzenesulfonic acid, 4-amino, azo pigment
P-10-0024 | 10/26/09 | 01/23/10 | CBI | (G) Precursor to another chemical substance, destructive use | (G) Substituted benzoyl chloride
P-10-0025 | 10/26/09 | 01/23/10 | CBI | (G) Precursor to another chemical substance, destructive use | (G) Substituted pyrazolone
P-10-0026 | 10/26/09 | 01/23/10 | CBI | (G) Precursor to another chemical substance, destructive use | (G) Salt of condensation product of substituted pyrazolone
P-10-0027 | 10/26/09 | 01/23/10 | CBI | (G) Precursor to another chemical substance, destructive use | (G) Substituted benzoic acid
P-10-0028 | 10/26/09 | 01/23/10 | CBI | (G) Precursor to another chemical substance, destructive use | (G) Substituted benzoic acid
P-10-0029 | 10/28/09 | 01/25/10 | CBI | (S) Acrylic polymer used in the manufacture of adhesive tapes | (G) Acrylic polymer
P-10-0030 | 10/28/09 | 01/25/10 | PPG Industries, Inc. | (G) Component of a coating | (G) Aromatic polyurethane
P-10-0031 | 10/28/09 | 01/25/10 | Reichhold, Inc. | (G) Flexibilizing resin, non-dispersive | (G) Alkanediol, polymer with alkyleneamine, isocyanate and glycol
P-10-0032 | 10/27/09 | 01/24/10 | CBI | (G) Dewaxing aid | (G) Alkylester, polymer with alkyl acrylate
P-10-0033 | 10/27/09 | 01/24/10 | CBI | (G) Gear oil additive | (G) Aromatic hydrogenated poly alkyldiene containing poly alkyl methacrylate
P-10-0034 | 10/27/09 | 01/24/10 | Firmenich Inc. | (S) Aroma for use in fragrance mixtures, which in turn are used in perfumes, soaps, cleansers, etc. | (S) 1(2H)-naphthalenone, octahydro-2,3,81-trimethyl-, (3R, 4AR, 8AR)-rel-
P-10-0035 | 10/29/09 | 01/26/10 | CBI | (G) Conditioning agent | (G) Sodium carboxylate
P-10-0036 | 10/30/09 | 01/27/10 | CBI | (S) Polyester filament and staple | (G) Substituted polyethylene terephtalate
P-10-0037 | 10/30/09 | 01/27/10 | CBI | (S) Flame retardant in polyester filament and staple | (G) Substituted propionic acid
P-10-0038 | 11/02/09 | 01/30/10 | CBI | (S) Flame retardant for use in adhesives and coatings | (G) Heterocyclic salt
P-10-0039 | 11/03/09 | 01/31/10 | Nanocomp Technologies, Inc. | (G) For all applications listed here the field is composite structures for aerospace | (S) Carbon
P-10-0040 | 11/03/09 | 01/31/10 | Nanocomp Technologies, Inc. | (G) For all applications listed here the field is aerospace | (S) Carbon
P-10-0041 | 11/03/09 | 01/31/10 | Huntsman Corporation | (G) Dispersing agent | (G) Polyether polyacid comb polymer
P-10-0042 | 11/03/09 | 01/31/10 | CBI | (S) Laminating adhesive | (G) Polyester polyurethane
P-10-0043 | 11/03/09 | 01/31/10 | CBI | (S) Coatings application | (G) Silicone modified alkyd resin
P-10-0044 | 11/04/09 | 02/01/10 | Green Era Solutions | (S) Fragrance ingredient | (S) Extractives and their physically modified derivatives. Callitropsis nootkatensis. Oil, callitropsis nootkatensis
P-10-0045 | 11/04/09 | 02/01/10 | CBI | (G) Adhesives | (G) Solvent free adhesives
P-10-0046 | 11/04/09 | 02/01/10 | Coim USA Inc. | (S) Foam insulation | (S) 1,4-benzenedicarboxylic acid, polymer with 2,2-bis(hydroxymethyl)-1,3-propanediol, hexanedioic acid, .alpha.-hydro-.omega.-hydroxypoly(oxy-1,2-ethanediyl), 1,3-isobenzofurandione and 2,2′-oxybis[ethanol], benzoate
P-10-0047 | 11/05/09 | 02/02/10 | CBI | (S) Curing agent for epoxy resin in protective coatings | (G) Alkenoic acid, 2-methyl-, 2-oxiranylmethyl ester, reaction products with 4,4′-methylenebis (cyclohexanamine)
P-10-0048 | 11/05/09 | 02/02/10 | CBI | (G) Pigment dispersant; drilling fluid dispersant | (G) Sulfonated SMA
P-10-0049 | 11/06/09 | 02/03/10 | CBI | (S) Resin for coatings for metal | (G) Polyester polyurethane
P-10-0050 | 11/09/09 | 02/06/10 | CBI | (G) Component in corrosion inhibitor formulation for oil field use | (G) Amine salts of fatty acids
P-10-0051 | 11/09/09 | 02/06/10 | Cognis Corporation | (S) Performance additive for hard surface cleaners | (S) Starch, 2-carboxyethyl 2-methyl-3-oxo-3-[[3-(trimethylammonio)propyl]amino]propyl ether, chloride
P-10-0052 | 11/09/09 | 02/06/10 | CBI | (G) Fuel additive intermediate | (G) Aryl polyolefin
P-10-0053 | 11/10/09 | 02/07/10 | CBI | (S) Reactant for the manufacture of a pesticide | (G) Halogenated aromatic amine
P-10-0054 | 11/10/09 | 02/07/10 | DIC International (USA) LLC | (G) Additive for lubricating oil | (G) Fluorinated acrylic acid ester copolymer (telomer type)
P-10-0055 | 11/09/09 | 02/06/10 | CBI | (S) Ingredient in fragrance compound | (S) Butanoic acid, 3-hydroxy-, 5-methyl-2-(1-methylethyl)cyclohexyl ester
P-10-0056 | 11/09/09 | 02/06/10 | CBI | (S) Ingredient in fragrance compound | (S) Butanoic acid, 3-mercapo-2-methyl-, ethyl ester
P-10-0057 | 11/09/09 | 02/06/10 | CBI | (G) Fuel additive | (G) Polyolefin aryl amine
P-10-0058 | 11/12/09 | 02/09/10 | CBI | (G) Intermediate | (G) Partially fluorinated alcohol substituted glycol
P-10-0059 | 11/12/09 | 02/09/10 | CBI | (G) Intermediate | (G) Partially fluorinated alcohol substituted glycol
P-10-0060 | 11/12/09 | 02/09/10 | CBI | (G) Surface active agent | (G) Partially fluorinated alcohol substituted glycol
P-10-0061 | 11/13/09 | 02/10/10 | CBI | (G) Chemical intermediate - destructive use | (G) Alkyl thiol, manufacture of, by-products from, distant lights
P-10-0062 | 11/13/09 | 02/10/10 | CBI | (G) Chemical intermediate - destructive use | (G) Alkyl thiol, manufacture of, by-products from, distant residues
P-10-0063 | 11/12/09 | 02/09/10 | Mitsui Chemicals America, Inc. | (S) Binder for toner | (G) Aromatic discarboxylic acid, polymer with 1,3-diisocyanatomethylbenzene, .alpha., .alpha′.-[(1-methylethylidene)di-4,1-phenylene]bis[.omega.-hydroxypoly[oxy(methyl-1-2, ethanediyl)]] and 2,2′-oxybis[etehanol]
P-10-0064 | 11/16/09 | 02/13/10 | CBI | (G) Curing aid | (G) Amidosilane
P-10-0065 | 11/16/09 | 02/13/10 | CBI | (G) Additive, open, non-dispersive use | (G) Polyether modified polyurea
P-10-0066 | 11/16/09 | 02/13/10 | CBI | (G) Ethoxylation initiator | (G) Partially fluorinated ortho-ester
P-10-0067 | 11/16/09 | 02/13/10 | CBI | (G) Used in the manufacture of polyurethane foam | (G) Organotin compound
P-10-0068 | 11/17/09 | 02/14/10 | CBI | (S) Additive for rubber articles | (G) Sulfur silane
P-10-0069 | 11/17/09 | 02/14/10 | CBI | (G) Used in adhesive products | (G) alkyl acrylate, polymer with aliphatic acid vinyl ester, vinyl monomer, acrylate and hydroxyalkyl acrylate
P-10-0070 | 11/17/09 | 02/14/10 | CBI | (G) Used in adhesive products | (G) acrylate, polymer with aliphatic acid vinyl ester, vinyl monomer and hydroxyalkyl acrylate
P-10-0071 | 11/17/09 | 02/14/10 | CBI | (G) Used in adhesive products | (G) alkyl acrylate, polymer with aliphatic acid vinyl ester, acrylate hydroxyalkyl acrylate, alkanenitrile and acrylate
P-10-0072 | 11/13/09 | 02/10/10 | The Dow Chemical Company | (S) Monomer inhibitor | (G) Substituted oxidized piperidinyl derivative
P-10-0073 | 11/17/09 | 02/14/10 | CBI | (G) Hardener for industrial coatings | (G) Blocked polyisocyanate
P-10-0074 | 11/17/09 | 02/14/10 | Alberdingk Boley, Inc. | (S) For special metal coatings | (G) Butanoic acid, 3-oxo-, 2-[(2-methyl-1-oxo-2-propen -1-yl)oxy]ethyl ester, polymer with butyl 2-methyl-2-propenoate, ethenylbenzene, 2-ethylhexyl 2-propenoate, methyl 2-methyl-2-propenoate, phosphoric acid, di-ester with hydroxy ethyl methacrylate and 2-(phosphonooxy) ethyl 2-methyl-2-propenoate
P-10-0075 | 11/18/09 | 02/15/10 | CBI | (G) Resin for use in manufacture of reinforced composite products | (G) Brominated aromatic polyether polyester
P-10-0076 | 11/18/09 | 02/15/10 | CBI | (S) Raw material used for production of 1,1-biphenyl, 3,3′,4,4′-tetramethyl | (S) Benzene, 4-bromo-1,2-dimethyl-
P-10-0077 | 11/18/09 | 02/15/10 | CBI | (G) Automotive coatings | (G) Linear hydroxy funtional polyester
P-10-0078 | 11/18/09 | 02/15/10 | Dow Chemical Company | (G) Adhesive component | (G) Capped polyurethane adduct
P-10-0079 | 11/18/09 | 02/15/10 | CBI | (G) Colorant | (G) Substituted naphthalene mixed salt
P-10-0080 | 11/19/09 | 02/16/10 | CBI | (G) Adhesive | (G) Mdi modified polyester resin
P-10-0081 | 11/18/09 | 02/15/10 | CBI | (S) Curing agent for epoxy resin in protective coatings | (G) Phenol, polymer with formaldehyde, glycidyl ether, reaction products with 5-amino-1,3,3-trialkylcycloalkanemethanamine
P-10-0082 | 11/18/09 | 02/15/10 | CBI | (G) Multi-purpose additive | (S) 1,2,3-propanetriol, homopolymer, hexadecanoate octadecanoate
P-10-0083 | 11/05/09 | 02/02/10 | CBI | (G) Resin component | (G) Hydroxy-aryl, polymer with substituted benzene, cyanate
P-10-0084 | 11/20/09 | 02/17/10 | CBI | (G) Dispersion additive for printing ink | (G) Carbazole violet sulfonamide derivate
P-10-0085 | 11/23/09 | 02/20/10 | CBI | (G) Non-dispersive use | (G) Bismuth salt of lactic acid
P-10-0086 | 11/23/09 | 02/20/10 | CBI | (G) Laminate resin viscosity modifier | (G) Epoxidized benzoxazine
P-10-0087 | 11/23/09 | 02/20/10 | CBI | (G) Destructive use | (G) Octylated phenyl-alpha-naphthylamine
P-10-0088 | 11/24/09 | 02/21/10 | Frx Polymers, Inc. | (G) Frx co-polymers are non-halogenated polyphosphonate-co-polycarbonate flame retardant polymers that address the need to replace the current commercial bromine-containing flame retardants that are being phased out due to environmental regulation. Flame retardants are required to meet fire safety standards in order to reduce flammability of combustible materials. Use sectors are: consumer electronics as well as building and construction lighting. | (G) Polyphosphonate-co-polycarbonate
P-10-0089 | 11/25/09 | 02/22/10 | CBI | (G) Solvent / curing agent | (G) Dialkyl imidazolium salt
P-10-0090 | 11/24/09 | 02/21/10 | CBI | (G) Polymer additive laundry care products | (S) Fatty acids, C18-unsaturated, dimers, hydrogenated, polymers with 1,6-diisocyanatohexane, polypropylene glycol diamine and polypropylene glycol mono(2-aminomethylethyl) ether ether with trimethylolpropane (3:1)
P-10-0091 | 11/24/09 | 02/21/10 | CBI | (G) Polymer additive laundry care products | (S) Fatty acids, C18-unsaturated, dimers, hydrogenated, polymers with 4-aminobenzoic acid, 1,6-diisocyanatohexane, polypropylene glycol diamine and polypropylene glycol mono(2-aminomethylethyl) ether ether with trimethylolpropane (3:1)
P-10-0092 | 11/24/09 | 02/21/10 | CBI | (G) Polymer additive laundry care products | (S) Fatty acids, C18-unsaturated, dimers, hydrogenated, polymers with polymethylenepolyphenylene isocyanate, polypropylene glycol diamine and polypropylene glycol mono(2-aminomethylethyl) ether ether with trimethylolpropane (3:1)
P-10-0093 | 11/24/09 | 02/21/10 | CBI | (G) Polymer additive laundry care products | (S) Fatty acids, C18-unsaturated, dimers, hydrogenated, polymers with 4-aminobenzoic acid, polymethylenepolyphenylene isocyanate, polypropylene glycol diamine and polypropylene glycol mono(2-aminomethylethyl) ether ether with trimethylolpropane (3:1)
P-10-0094 | 11/24/09 | 02/21/10 | CBI | (G) Polymer additive laundry care products | (S) Fatty acids, C18-unsaturated, dimers, polymers with 4-aminobenzoic acid, 1,6-diisocyanatohexane, polypropylene glycol diamine and polypropylene glycol mono(2-aminomethylethyl) ether ether with trimethylolpropane (3:1)
P-10-0095 | 11/24/09 | 02/21/10 | CBI | (G) Polymer additive laundry care products | (S) Fatty acids, C18-unsaturated, dimers, polymers with 4-aminobenzoic acid, polymethylenepolyphenylene isocyanate, polypropylene glycol diamine and polypropylene glycol mono(2-aminomethylethyl) ether ether with trimethylolpropane (3:1)
P-10-0096 | 11/30/09 | 02/27/10 | CBI | (G) Industrial coating binder | (G) Aminated epoxy salts
P-10-0097 | 11/30/09 | 02/27/10 | CBI | (G) Industrial coating additive for electrocoat | (G) Aminated epoxy salt
P-10-0098 | 11/25/09 | 02/22/10 | CBI | (G) Additive for pigment ink | (G) 2-propenoic acid, 2-methyl-, polymer with substituted esters with acrylic acid and 2-propenoic acid
P-10-0099 | 12/02/09 | 03/01/10 | CBI | (G) Modifier for polymers | (S) Phosphonic acid, p-octyl-, lanthanum(3+) salt (2:1)
P-10-0100 | 12/03/09 | 03/02/10 | CBI | (G) Additive, open, non-dispersive use | (G) Polyester amine compound
P-10-0101 | 12/03/09 | 03/02/10 | CBI | (G) Chemical intermediate | (G) Aromatic polyester
P-10-0102 | 12/03/09 | 03/02/10 | Robertet, Inc. | (S) As an odoriferous component of fragrance compounds | (S) Definition: Extractives and their physically modified derivatives jasminum sambac.
P-10-0102 | 12/03/09 | 03/02/10 | Robertet, Inc. | (S) As an odoriferous component of fragrance compounds | (S) Oils, jasmine, jasminum sambac
P-10-0103 | 12/04/09 | 03/03/10 | CBI | (G) Resin for ultra violet curable adhesives | (S) Fatty acids, C18-unsaturated, di-me esters, hydrogenated, polymers with diethylene glycol, 1,6-diisocyanato-2,2,4-trimethylhexane, 1,6-diisocyanato-2,4,4-trimethylhexane, 2-heptyl-3,4-bis(9-isocyanatononyl)-1-pentylcyclohexane, 1,1′-methylenebis[4-isocyanatobenzene], 2-oxepanone and tricyclodecanedimethanol, 2-hydroxyethyl acrylate-blocked
P-10-0104 | 12/08/09 | 03/07/10 | Henkel Corporation | (S) Fragrance for fabric softener | (S) Silicic acid, 1-ethenylhexyl ethyl ester
P-10-0105 | 12/09/09 | 03/08/10 | CBI | (S) Plasticizer for use with pvc and rubber | (S) 1,2-cyclohexane dicarboxylic acid bis (2-ethylhexyl) ester
P-10-0106 | 12/10/09 | 03/09/10 | Instrumental Polymer Technologies, LLC | (G) Resin for coatings | (G) Hydroxyl - terminated aliphatic polycarbonate
P-10-0107 | 12/10/09 | 03/09/10 | CBI | (G) (1) Polymer composites : Open, non-dispersive use; (2) Liquid dispersions : Open, non-dispersive use; (3) Liquid dispersion : Contained use | (S) Multiwall carbon nanotubes
P-10-0108 | 12/10/09 | 03/09/10 | CBI | (S) Antioxidant for plastic articles | (G) Thioether antioxidant
P-10-0109 | 12/08/09 | 03/07/10 | CBI | (G) Coating additive | (G) Urethane acrylate oligomer
P-10-0110 | 12/11/09 | 03/10/10 | CBI | (G) Detergent | (G) Polyester
P-10-0111 | 12/10/09 | 03/09/10 | The Dow Chemical Company | (S) Component rigid polyurethane foams for construction panels; component rigid polyurethane foam for appliances; component rigid foam spray applications | (G) Benzene dicarboxylic acid, polyester with glycol and polyethylene glycol
P-10-0112 | 12/10/09 | 03/09/10 | The Dow Chemical Company | (S) Component rigid polyurethane foams for construction panels; component rigid polyurethane foam for appliances; component rigid foam spray applications | (G) Benzene dicarboxylic acid, polyester with glycol and polyethylene glycol
P-10-0113 | 12/10/09 | 03/09/10 | The Dow chemical Company | (S) Component rigid polyurethane foams for construction panels; component rigid polyurethane foam for appliances; component rigid foam spray applications | (G) Benzene dicarboxylic acid, polyester with glycol and polyethylene glycol
P-10-0114 | 12/10/09 | 03/09/10 | The Dow Chemical Company | (S) Component rigid polyurethane foams for construction panels; component rigid polyurethane foam for appliances; component rigid foam spray applications | (G) Benzene dicarboxylic acid, polyester with glycol and polyethylene glycol
P-10-0115 | 12/11/09 | 03/10/10 | CBI | (S) Electrical conductivity additive for composites; mechanical reinforcement for composites; additive for battery electrodes | (S) Nanofiber type: PR-19 (nanofiber grade: XT-PS
P-10-0116 | 12/11/09 | 03/10/10 | CBI | (S) Electrical conductivity additive for composites; mechanical reinforcement for composites; additive for battery electrodes | (S) Nanofiber type: PR-19 (nanofiber grade: XT-LHT)
P-10-0117 | 12/11/09 | 03/10/10 | CBI | (S) Electrical conductivity additive for composites; mechanical reinforcement for composites; additive for battery electrodes | (S) Nanofiber type: PR-19 (nanofiber grade: XT-HHT)
P-10-0118 | 12/11/09 | 03/10/10 | CBI | (S) Electrical conductivity additive for composites; mechanical reinforcement for composites; additive for battery electrodes | (S) Nanofiber type: PR-24 (nanofiber grade: XT-PS)
P-10-0119 | 12/11/09 | 03/10/10 | CBI | (S) Electrical conductivity additive for composites; mechanical reinforcement for composites; additive for battery electrodes | (S) Nanofiber type: PR-24 (nanofiber grade: XT-LHT)
P-10-0120 | 12/11/09 | 03/10/10 | CBI | (S) Electrical conductivity additive for composites; mechanical reinforcement for composites; additive for battery electrodes | (S) Nanofiber type: PR-24 (nanofiber grade: XT-HHT)
P-10-0121 | 12/11/09 | 03/10/10 | CBI | (S) Electrical conductivity additive for composites; mechanical reinforcement for composites; additive for battery electrodes | (S) Nanofiber type: PR-19 (nanofiber grade: XT-PS-AM)
P-10-0122 | 12/11/09 | 03/10/10 | CBI | (S) Electrical conductivity additive for composites; mechanical reinforcement for composites; additive for battery electrodes | (S) Nanofiber type: PR-19 (nanofiber grade: XT-LHT-AM)
P-10-0123 | 12/11/09 | 03/10/10 | CBI | (S) Electrical conductivity additive for composites; mechanical reinforcement for composites; additive for battery electrodes | (S) Nanofiber type: PR-19 (nanofiber grade: XT-HHT-AM)
P-10-0124 | 12/11/09 | 03/10/10 | CBI | (S) Electrical conductivity additive for composites; mechanical reinforcement for composites; additive for battery electrodes | (S) Nanofiber type: PR-24 (nanofiber grade: XT-PS-AM)
P-10-0125 | 12/11/09 | 03/10/10 | CBI | (S) Electrical conductivity additive for composites; mechanical reinforcement for composites; additive for battery electrodes | (S) Nanofiber type: PR-24 (nanofiber grade: XT-LHT-AM)
P-10-0126 | 12/11/09 | 03/10/10 | CBI | (S) Electrical conductivity additive for composites; mechanical reinforcement for composites; additive for battery electrodes | (S) Nanofiber type: PR-24 (nanofiber grade: XT-HHT-AM)
P-10-0127 | 12/14/09 | 03/13/10 | CBI | (G) Industrial coating binder | (G) Blocked isocyanate crosslinker
P-10-0128 | 12/14/09 | 03/13/10 | CBI | (G) Filling material | (S) Siloxanes and silicones, di-me, 3-hydroxypropyl group-terminated, ethoxylated, polymers with 1,6-diisocyanato-2,2,4-trimethylhexane, 1,6-diisocyanato-2,4,4-trimethylhexane, polypropylene glycol ether with glycerol (3:1) and polypropylene glycol ether with pentaerythritol (4:1), polypropylene glycol mono-bu ether-blocked
P-10-0129 | 12/16/09 | 03/15/10 | Henkel Corporation | (S) A polymerizable component of industrial adhesive and sealant | (S) Benzene, 1,3-bis(1-chloro-1-methylethyl)-, reaction products with polyisobtutylene and trimethyl-2-propen-1-ylsilane
P-10-0130 | 12/16/09 | 03/15/10 | Alberdingk Boley, Inc. | (S) Polyurethane coating for wood | (G) Linseed oil, ester with pentaerythritol, polymer with .alpha.-hydro-.omega.-hydroxypoly(oxy-1,4-butanediyl), 3-hydroxy-2-(hydroxymethyl) 2-methylpropanoic acid and 5-isocyanato-1-(isocyanatomethyl)-alkylcyclohexane, compounds with triethylamine
P-10-0131 | 12/16/09 | 03/15/10 | CBI | (G) Rheological additive for paints | (G) Polyester salt of hydrogenated dimer of fatty acids and glycerol.
P-10-0132 | 12/16/09 | 03/15/10 | CBI | (S) Catalyst complexing agent | (G) Aromatic hydrocarbon
P-10-0133 | 12/17/09 | 03/16/10 | CBI | (G) Chemical intermediate - destructive use | (G) Alkyl sulfide, manufacture of, by-products from, distant lights
P-10-0134 | 12/17/09 | 03/16/10 | CBI | (G) Chemical intermediate - destructive use | (G) Alkyl sulfide, manufacture of, by-products from, distant lights
P-10-0135 | 12/17/09 | 03/16/10 | 3M Company | (G) Heat transfer fluid | (G) Fluoroketone
P-10-0136 | 12/17/09 | 03/16/10 | CBI | (G) Monomer for industrial paints, coatings, ink and adhesives | (G) Polythiol
P-10-0137 | 12/18/09 | 03/17/10 | CBI | (G) Coating agent | (G) Substituted polyethyleneimine
P-10-0138 | 12/18/09 | 03/17/10 | CBI | (G) Perfoemance chemical for oilfield applications | (G) Long chain alkylacrylate, homopolymers
P-10-0139 | 12/18/09 | 03/17/10 | CBI | (G) Perfoemance chemical for oilfield applications | (G) Long chain alkylacrylate, homopolymers
P-10-0140 | 12/18/09 | 03/17/10 | CBI | (G) Adhesive for car | (G) Urethane modified epoxy resin
P-10-0141 | 12/18/09 | 03/17/10 | CBI | (G) Adhesive component | (G) Carbohydrate
P-10-0142 | 12/22/09 | 03/21/10 | CBI | (G) Component of fragrance mixture for highly-dispersive applications | (G) Furan, 2-(1,1-dimethylethyl)-2, 5-dihydro-alkyl substituted
P-10-0143 | 12/22/09 | 03/21/10 | Instrumental Polymer Technologies, LLC | (G) Resin for coatings | (G) Hydroxyl-terminated aliphatic polycarbonate
P-10-0144 | 12/22/09 | 03/21/10 | Wacker Chemical Corporation | (S) Additive for paper and foil coatings and bonding agents | (G) Methyl-phenyl silicone resin with alkoxy groups
P-10-0145 | 12/23/09 | 03/22/10 | Henkel Corporation | (S) Fragrance for fabric softener | (S) Silicic acid, 9-decen-1-yl ethyl ester
P-10-0146 | 12/23/09 | 03/22/10 | CBI | (G) Processing aid | (G) Alkyl substituted polyamide
P-10-0147 | 12/23/09 | 03/22/10 | Huntsman Corporation | (G) Intermediate amine | (G) Alkoxylated alkylamine
P-10-0148 | 12/23/09 | 03/22/10 | CBI | (G) Ethoxylation initiator | (G) Partially fluorinated borate ester
P-10-0149 | 12/23/09 | 03/22/10 | Huntsman Corporation | (G) Grinding aid | (G) Alkoxylated alkylamine salt
P-10-0150 | 12/24/09 | 03/23/10 | Instrumental polymer technologies, LLC | (G) Resin for coatings | (G) Hydroxy - terminated; aliphatic polycarbonate
P-10-0151 | 12/23/09 | 03/22/10 | Henkel Corporation | (S) Cure accelerator in industrial adhesive formulations | (S) 1,2-propanediol, 3-(3,4-dihydro-1(2H)-quinolinyl)-
P-10-0152 | 12/24/09 | 03/23/10 | CBI | (G) Filler dispersant | (G) Phosphated polyalkoxylate
P-10-0153 | 12/24/09 | 03/23/10 | Sachem, Inc. | (G) Chemical intermediate | (S) 1H-imidazole, 1-(1-methylethyl)-
P-10-0154 | 12/23/09 | 03/22/10 | Henkel Corporation | (S) Cure modifier in industrial adhesive formulations | (S) Quinoline, 1-butyl-1,2,3,4-tetrahydro-
P-10-0155 | 12/24/09 | 03/23/10 | CBI | (G) Open, non-dispersive use. | (G) Acid-functional oligomer
P-10-0156 | 12/23/09 | 03/22/10 | Huntsman International, LLC | (S) Disperse dye for polyester fabrics | (G) Substituted phenyl azo substituted phenyl alkyl substituted indole
P-10-0157 | 12/28/09 | 03/27/10 | Henkel Corporation | (S) A polymerizable component in novel adhesive and sealant formulations | (S) 2-propenoic acid, 2-methyl-, octahydro-4, 7-methano-1h-inden-5-yl ester
P-10-0158 | 12/28/09 | 03/27/10 | Henkel Corporation | (S) A polymerizable component in industrial adhesive formulations | (S) Disiloxane, 1,1,3,3-tetramethyl-, polymer with 1,7-octadiene
P-10-0159 | 12/29/09 | 03/28/10 | CBI | (G) Coatings additive | (G) Polycyclic polyamine diester organometallic compound
P-10-0160 | 01/04/10 | 04/03/10 | CBI | (G) Lithographic inks | (G) Polyester acrylate
P-10-0161 | 01/04/10 | 04/03/10 | Gelest, Inc. | (S) Conversion to isopropyldimethylchlorosilane; Research | (S) Silane, dimethyl(1-methylethyl)-
P-10-0162 | 01/04/10 | 04/03/10 | Gelest, Inc. | (S) Conversion to (3-isopropyldimethylsiloxy)prop-1-yl chloride; Research | (S) Silane, chlorodimethyl(1-methylethyl)-
P-10-0163 | 01/04/10 | 04/03/10 | Gelest, Inc. | (S) Conversion to lithium reagent; Research | (S) Silane, (3-chloropropoxy)dimethyl(1-methylethyl)-
P-10-0164 | 01/05/10 | 04/04/10 | Worwag Coatings LLC | (S) Automotive part paint additive | (G) Aliphatic diisocyanates, modified dimer fatty acid, polyesterpolyol, bishydroxymethylpropionic acid polymer
P-10-0165 | 01/06/10 | 04/05/10 | CBI | (G) Printing additive | (G) Polyester resin
P-10-0166 | 01/07/10 | 04/06/10 | CBI | (G) Adhesive component | (G) 1,1′-methylenebis[isocyanatobenzene], polymer with polyester polyols and a polyether polyol
P-10-0167 | 01/08/10 | 04/07/10 | CBI | (G) Flame retardant | (G) Brominated aromatic oligomer
P-10-0168 | 01/11/10 | 04/10/10 | CBI | (S) Resin for coatings for metal | (G) Polyester polyurethane
P-10-0169 | 01/11/10 | 04/10/10 | CBI | (G) Chemical intermediate - destructive use | (G) Alkyl thiols, manufacturer of, by-products from, distant heavies
P-10-0170 | 01/12/10 | 04/11/10 | CBI | (G) Coatings | (G) Urethane acrylate
P-10-0171 | 01/13/10 | 04/12/10 | Sachem, Inc. | (G) Chemical intermediate | (S) 1H-imidazolium, 1,3-bis(1-methylethyl)-, bromide
P-10-0172 | 01/13/10 | 04/12/10 | Sachem, Inc. | (G) Destructive use catalyst | (S) 1H-imidazolin, 1,3-bis(1-methylethyl)-, hydroxide
P-10-0173 | 01/14/10 | 04/13/10 | The Shepherd Chemical Company | (G) Automotive additive | (G) Vinylimidazole (VIMA) grafted poly alpha olefin (PAO) complexed with diisopropoxy titanium bis-acetylacetonate
P-10-0174 | 01/14/10 | 04/13/10 | The Shepherd Chemical Company | (G) Automotive additive | (G) Vinylimidazole (VIMA) grafted poly alpha olefin (PAO) complexed with molybdenum borate neodecanoate
P-10-0175 | 01/14/10 | 04/13/10 | CBI | (G) Open nondispersive (component in polyurethane coating) | (G) Aliphatic hydroxyfunctional polyester-polyurethane dispersion
P-10-0176 | 01/15/10 | 04/14/10 | CBI | (G) Electrographic toner | (G) Aliphatic polycarboxylic acid, polymer with aromatic polycarboxylic acid and aliphatic polyol
P-10-0177 | 01/19/10 | 04/18/10 | Umicore Precious Metals NJ, LLC | (S) Inhibited curing agent | (G) PT carbonyl cyclosiloxane
P-10-0178 | 01/19/10 | 04/18/10 | Hitachi Chemical Co. America, Ltd. | (S) Adhesive for semiconductor packages | (S) 2-propenoic acid, 2-methyl-, 2-oxiranylmethyl ester, polymer with butyl 2-propenoate, ethyl 2-propenoate and 2-propenenitrile
P-10-0179 | 01/19/10 | 04/18/10 | CBI | (G) Industrial liquid coatings | (G) Polymer of tall oil fatty acid, aliphatic diols, aliphatic polyols, and aromatic acids
P-10-0180 | 01/19/10 | 04/18/10 | CBI | (S) Curing agent or accelerator for epoxy resin | (G) Alkanediamines polymer with 1,6-diisocyanatohexane, 1H-imidazole-1-propanamine -blocked
P-10-0181 | 01/19/10 | 04/18/10 | The Dow Chemical Company | (G) Component of electrical laminates | (G) Phenyl glycidyl ether derivative
P-10-0182 | 01/19/10 | 04/18/10 | CBI | (G) Coated particles for support | (G) Aromatic isocyanate reaction product with sand

In Table II of this unit, EPA provides the following information (to the extent that such information is not claimed as CBI) on the TME received:

II. 1 Test Marketing Exemption Notices Received From: 10/26/09 to 1/22/10
Case No. | Received Date | Projected Notice End Date | Manufacturer/Importer | Use | Chemical
T-10-0001 | 10/28/09 | 12/11/09 | PPG Industries, Inc. | (G) Component of a coating | (G) Aromatic polyurethane

In Table III of this unit, EPA provides the following information (to the extent that such information is not claimed as CBI) on the Notices of Commencement to manufacture received:

III. 117 Notices of Commencement From: 10/26/09 to 1/22/10
Case No. | Received Date | Commencement Notice End Date | Chemical
P-04-0179 | 11/17/09 | 11/10/09 | (G) Tertiary amine carboxylic acid compound
P-04-0426 | 12/01/09 | 10/27/09 | (G) Dithiophosphate alkyl ester
P-04-0456 | 11/04/09 | 10/23/09 | (G) Neutralized acrylic polymer
P-05-0080 | 12/28/09 | 12/08/09 | (G) Chemical 1: Paraffinic light base oil
P-05-0081 | 12/28/09 | 12/08/09 | (G) Paraffinic heavy base oil
P-05-0082 | 12/28/09 | 12/08/09 | (G) Hydrotreated middle distillate
P-05-0083 | 12/28/09 | 12/08/09 | (G) Light catalytic cracked distillate
P-05-0084 | 12/28/09 | 12/08/09 | (G) Hydrocracked light distillate
P-05-0085 | 12/28/09 | 12/08/09 | (G) Hydrotreated light distillate
P-05-0086 | 12/28/09 | 12/08/09 | (G) Hydrocracked heavy distillate
P-05-0088 | 11/16/09 | 10/24/09 | (G) Branched and linear hydrocarbons
P-05-0090 | 12/28/09 | 12/08/09 | (G) Chemical 1: Heavy naphtha
P-05-0091 | 12/28/09 | 12/08/09 | (G) Chemical 2: Hydrocracked heavy naphtha
P-05-0092 | 12/28/09 | 12/08/09 | (G) Hydrodesulfurized heavy naphtha
P-05-0093 | 12/28/09 | 12/08/09 | (G) Neutralized light naphtha
P-05-0094 | 12/28/09 | 12/08/09 | (G) Hydrotreated heavy naphtha
P-05-0095 | 12/28/09 | 12/08/09 | (G) Catalytic cracked heavy naphtha
P-05-0096 | 12/28/09 | 12/08/09 | (G) Chemical 1: Light naphtha
P-05-0097 | 12/28/09 | 12/08/09 | (G) Chemical 2: Hydrocracked light naphtha
P-05-0098 | 12/28/09 | 12/08/09 | (G) Hydrodesulfurized light naphtha
P-05-0099 | 12/28/09 | 12/08/09 | (G) Neutralized light naphtha
P-05-0100 | 12/28/09 | 12/08/09 | (G) Catalytic cracked light naphtha
P-05-0101 | 12/28/09 | 12/08/09 | (G) Hydrotreated light naphtha
P-07-0013 | 01/06/10 | 12/07/09 | (G) Alkylphenol novolak modified with amine and epoxy
P-07-0356 | 12/23/09 | 12/14/09 | (G) Polymer with aliphatic diisocyanates, polycarbonatediol and bishydroxymethylproionic acid
P-07-0358 | 01/06/10 | 12/18/09 | (G) Hexitol, anhydro-, bis[[(1-oxo-2-propenyl)oxy]benzoate], polymer with phenylene bis[[(1-oxo-2-propenyl)oxy]alkyl(C1-C10)oxy benzoate]
P-07-0418 | 10/28/09 | 09/16/09 | (G) Hydrogenated polyalphaolefins
P-07-0435 | 12/23/09 | 12/14/09 | (G) Copolymer of acrylic acrylates, methacrylates and acid
P-07-0586 | 11/10/09 | 10/30/09 | (G) Polydimethysaline
P-07-0622 | 11/02/09 | 10/23/09 | (G) Alkanoldioic acid, dialkyl ester
P-08-0046 | 11/30/09 | 11/20/09 | (G) Mixed metal oxide complex
P-08-0047 | 11/30/09 | 11/11/09 | (G) Metal oxide complex
P-08-0069 | 12/07/09 | 11/18/09 | (G) Alkenyl succinimide
P-08-0179 | 12/15/09 | 12/03/09 | (G) 1,2,3-propanetricarboxamide derivative
P-08-0219 | 12/30/09 | 12/28/09 | (S) 1,3-cyclopentadiene, 5-butyl-
P-08-0238 | 11/02/09 | 10/12/09 | (G) Water-borne silicone grafted (meth)acrylic copolymer
P-08-0508 | 10/26/09 | 10/05/09 | (G) Perfluorinated aliphatic carboxylic acid
P-08-0631 | 11/16/09 | 11/04/09 | (G) Alkenoic acid polymer with (poly)hydroxy substituted alkane, ester with acryloylcarbamic acid
P-08-0669 | 11/10/09 | 11/03/09 | (G) Urethane acrylate
P-08-0670 | 12/11/09 | 11/03/09 | (G) Urethane acrylate
P-08-0707 | 11/19/09 | 11/01/09 | (S) 2H-2,4A-methanonaphthalen-1(5H)-one, hexahydro-5,5-dimethyl-
P-09-0048 | 10/28/09 | 10/06/09 | (G) Surface modified ceramic particles
P-09-0061 | 12/11/09 | 12/08/09 | (G) Hydroxy-chloro-cyclopropyl-heteromonocycliccarboxylic acid
P-09-0075 | 11/03/09 | 10/09/09 | (G) Aliphatic, aromatic unsaturated bicyclic derivative
P-09-0076 | 12/08/09 | 11/26/09 | (G) Diamino - (substituted phenylazo) - benzene sulfonic acid, salt
P-09-0115 | 11/02/09 | 10/07/09 | (G) Alkanedioic acid, polymer with N-(aminoalkyl)-alkyldiamine, (chloromethyl)oxirane and alkylpolyol, acid salt
P-09-0120 | 01/05/10 | 12/14/09 | (G) Epoxidized siloxane
P-09-0127 | 01/11/10 | 12/19/09 | (G) Aliphatic polyurethane resin aqueous dispersion
P-09-0141 | 01/19/10 | 12/18/09 | (G) 1,3-ethyl, methylimidazolium undecafluoro substituted ionic methalic species
P-09-0160 | 12/07/09 | 11/26/09 | (G) 2-propenoic acid, polymer with butyl 2-propenoate, (2,3,4,5,6-pentabromophenyl) methyl 2-propenoate and substitute acrylates
P-09-0165 | 11/03/09 | 07/07/09 | (G) Modified, saturated polyester resin
P-09-0166 | 11/16/09 | 11/10/09 | (G) Butylated melamine
P-09-0172 | 12/15/09 | 12/04/09 | (G) Substituted carboxylic acid reaction product with substituted amine and amide, acetates
P-09-0174 | 12/09/09 | 11/13/09 | (G) Perfluoroalkylethylmethacrylate copolymer
P-09-0200 | 01/14/10 | 11/15/09 | (G) Alkanoic acid, potassium salt
P-09-0210 | 12/08/09 | 11/23/09 | (G) Furandione polymer with ethenylbenzene, alkyl ester
P-09-0245 | 12/16/09 | 12/14/09 | (G) Partially fluorinated alcohol, reaction products with phosphorus oxide (P2O5), ammonium salts
P-09-0246 | 12/29/09 | 12/22/09 | (G) Partially fluorinated alcohol, reaction products with phosphorus oxide (P2O5)
P-09-0247 | 12/28/09 | 12/05/09 | (G) Acrylamide-based copolymer
P-09-0253 | 12/11/09 | 11/27/09 | (G) Polyether polyester copolymer phosphate
P-09-0254 | 11/06/09 | 11/02/09 | (G) Polyacrylate, modified with siloxanes
P-09-0257 | 11/24/09 | 10/18/09 | (S) Multi-wall carbon nanotube
P-09-0271 | 11/27/09 | 11/17/09 | (G) Aryl alkylphosphonate
P-09-0279 | 11/02/09 | 10/29/09 | (G) Styrene-maleic anhydride copolymer, reaction product with amino compounds
P-09-0286 | 11/06/09 | 10/28/09 | (G) Poly(oxyalkylenediyl), a-substituted carbomonocycle-.omega.-substituted carbomonocycle
P-09-0289 | 10/27/09 | 08/05/09 | (G) Solid epoxy resin
P-09-0308 | 11/16/09 | 11/05/09 | (G) Amine modified polyester acrylate
P-09-0347 | 11/05/09 | 10/09/09 | (G) Alkyl diphenyl ether
P-09-0374 | 11/23/09 | 10/30/09 | (G) Fatty acids, polymers with adipic acid, 1,6-hexandiol, 3-hydroxy-2-(hydroxymethyl)-2-methylpropanoic acid and 1,1′-methylenebis[4-isocyanatocyclohexane], compounds with triethylamine
P-09-0379 | 11/03/09 | 09/15/09 | (G) High molecular weight polyester
P-09-0386 | 11/09/09 | 10/14/09 | (G) Alkenyl succinic anhydride
P-09-0409 | 10/27/09 | 10/16/09 | (G) Urethane acrylate
P-09-0414 | 12/01/09 | 11/04/09 | (G) Polyester resin
P-09-0427 | 11/03/09 | 10/28/09 | (G) Phenol, 4,4′-(1-methylethylidene)bis-, polymer with 2-(chloromethyl)oxirane, reaction products with dithiol
P-09-0428 | 12/17/09 | 12/10/09 | (G) Mixed metal oxide complex
P-09-0435 | 11/10/09 | 11/02/09 | (S) 6,8-dimethyl-7-nonenal
P-09-0451 | 12/22/09 | 12/09/09 | (G) Butanamide, N-[substituted phenyl]-[(alkoxynitrophenyl)diazenyl]-3-oxo-
P-09-0453 | 11/04/09 | 10/27/09 | (G) Urethane prepolymer
P-09-0454 | 01/05/10 | 11/16/09 | (G) Polyurethane
P-09-0477 | 11/12/09 | 11/06/09 | (G) Fluoroalkyl sulfonamide
P-09-0478 | 12/23/09 | 12/10/09 | (G) Modified polyol
P-09-0481 | 12/22/09 | 12/02/09 | (G) Fluorinated polymer
P-09-0485 | 11/13/09 | 11/07/09 | (G) Fluorinated sulfonamide alcohol
P-09-0490 | 12/09/09 | 11/18/09 | (S) 2H-1,5-benzodioxepin-3 (4H)-one, 7-(1-methylethyl)-
P-09-0498 | 12/14/09 | 12/07/09 | (G) Aromatic dicarboxylic acid, polymer with cycloaliphatic diamine, 2-(chloromethyl)oxirane, alkyldioic acid and an aryl diphenol
P-09-0499 | 12/30/09 | 10/21/09 | (G) Aromatic polyether polymer
P-09-0511 | 12/08/09 | 12/03/09 | (G) Fluoroalkyl acrylate copolymer
P-09-0531 | 11/30/09 | 11/12/09 | (G) Acrylic solution polymer
P-09-0534 | 01/05/10 | 11/16/09 | (G) Carbamic acid, (methylenedicyclohexanediyl)bis-mixed diesters with polyethylene glycol and polyethylene glycol mono ethers
P-09-0536 | 01/05/10 | 11/16/09 | (G) Carbamic acid, (methylenedicyclohexanediyl)bis-mixed diesters with unsaturated alcohols, polyethylene glycol and polyethylene glycol mono ethers
P-09-0537 | 01/05/10 | 11/16/09 | (G) Polyethylene glycol, alpha, alpha′, alpha′′-propanetrilmonoesters with [[[carboxyaminitrimethylcyclohexyl]methyl]amino]carbonyl]-octadecenyloxy)polyethylene glycol
P-09-0538 | 01/05/10 | 11/16/09 | (G) Carbamic acid, (methylenedicyclohexanediyl)bis-mixed diesters with isoalcohols, polyethylene glycol and polyethylene glycol mono ethers
P-09-0539 | 01/05/10 | 11/16/09 | (G) Carbamic acid, (trimethylhexanediyl)bis-mixed diesters with unsaturated alcohols, isoalcohols and polyethylene glycol
P-09-0544 | 12/10/09 | 12/01/09 | (G) Polyalkyleneglycol, reaction products with hydroxyalkyl acrylate, dihydroxyalkyl alkanoic acid, sodium-aminoalkyl-alaninate, sodium salt
P-09-0555 | 11/30/09 | 11/18/09 | (G) Acrylate, polymer with aromatic vinyl monomer and acrylates
P-09-0564 | 12/07/09 | 11/20/09 | (G) Polyurethane prepolymer
P-09-0570 | 12/28/09 | 12/04/09 | (G) Alkyl thiol, manufacturer of, by-products from, distant heavies
P-09-0572 | 12/23/09 | 12/10/09 | (G) Alkyl thiol, manufacturer of, by-products from, distant heavies
P-09-0573 | 12/23/09 | 12/04/09 | (G) Alkyl thiol, manufacturer of, by-products from, distant residues heavies
P-09-0575 | 12/18/09 | 12/13/09 | (G) Naphthalenesulfonic acid, [(chloro-methyl-sulfophenyl)diazenyl]-hydroxy-metal salt
P-09-0578 | 12/18/09 | 12/13/09 | (G) Naphthalenesulfonic acid, [(methyl-sulfophenyl)diazenyl]-hydroxy-metal salt
P-09-0581 | 12/30/09 | 12/16/09 | (G) Styrenyl surface treated manganese ferrite
P-09-0582 | 12/30/09 | 12/16/09 | (G) Acrylate polymer stabilized manganese ferrite
P-09-0583 | 01/14/10 | 12/16/09 | (G) Anthraquinone acid dye salt
P-09-0584 | 01/14/10 | 12/16/09 | (G) Copper phthalocyanine direct dye salt
P-09-0585 | 12/07/09 | 11/20/09 | (G) Polymer of aliphatic cyclic methacrylic acid and aliphatic methacrylic acid ester
P-09-0587 | 12/08/09 | 11/24/09 | (S) Butanedioic acid, 2-methylene-, monoisooctadecyl ester
P-09-0588 | 12/08/09 | 11/25/09 | (S) Butanedioic acid, 2-methylene-, monoisooctadecyl ester, palladium(2+) salt (2:1)
P-09-0592 | 01/13/10 | 12/22/09 | (G) Aqueous polyurethane resin dispersion
P-09-0598 | 12/18/09 | 12/07/09 | (G) Alkyl acrylic acid, polymer with alkyl acrylate alkyl ester and alkyldiyl diacrylate
P-09-0600 | 12/30/09 | 11/29/09 | (G) Alkyl thiol, manufacturer of, by-products from, distant lights
P-09-0612 | 12/07/09 | 11/30/09 | (G) Silane treated glass
P-09-0615 | 01/19/10 | 01/07/10 | (S) Alkenes, C26-30 .alpha.-, polyoumd.
P-10-0003 | 01/19/10 | 01/12/10 | (G) Alkyl thiol, manufacturer of by-products from, distant lights
P-10-0004 | 01/19/10 | 01/12/10 | (G) Alkyl thiol, manufacturer of by-products from, distant residues
P-97-1011 | 12/14/09 | 06/05/98 | (S) Oxirane, 2,2′-(methylenebis ((2,6-dimethyl-4,1phenylene) oxymethylene))bis-
P-98-0543 | 01/13/10 | 12/31/09 | (G) Polyurethane with carboxy functions

List of Subjects

Environmental protection, Chemicals, Premanufacturer notices.

Dated: March 1, 2010.
Chandler Sirmons,
Acting Director, Information Management Division, Office of Pollution Prevention and Toxics.

[FR Doc. 2010-5129 Filed 3-9-10; 8:45 am]

BILLING CODE 6560-50-S